DEPARTMENT OF TRANSPORTATION

Surface Transportation Board

[Docket No. AB-33 (Sub-No. 70)]

Union Pacific Railroad Company—Abandonment—Wallace Branch, ID

AGENCY: Surface Transportation Board.

ACTION: Notice of availability of final supplemental environmental assessment.

SUMMARY: The Surface Transportation Board's (Board's) Section of Environmental Analysis (SEA) has prepared a Final Supplemental Environmental Assessment (Final Supplemental EA) to complete the environmental review process under the National Environmental Policy Act (NEPA) for this rail abandonment proceeding.

FOR FURTHER INFORMATION CONTACT: Dana White, (202) 565-1552 (TDD for the hearing impaired 1-800-877-8339). To obtain a copy of the Final Supplemental EA, contact Da-To-Da Office Solutions, 1925 K Street, NW., Washington, DC 20006, phone (202) 466-5530 or visit the Board's website at “WWW.STB.DOT.GOV”.

SUPPLEMENTARY INFORMATION: This Final Supplemental EA addresses the Union Pacific Railroad Company's (UP's) filings with the Board on June 18, 1999 and October 19, 1999, of environmental information required to complete the environmental review process in this rail abandonment proceeding in accordance with the Court's decision in State of Idaho v. ICC, 35 F.3d 585 (D.C. Cir. 1994). UP now seeks final approval to salvage (i.e., remove the tracks, ties, and roadbed) the rail lines known as the Wallace-Mullan Branches (Wallace Branch) in Benewah, Kootenai and Shoshone Counties, Idaho outside of the Bunker Hill Superfund Site (BHSS).¹

¹ The 71.5-mile line extends from milepost 16.5 near Plummer, to milepost 80.4, near Wallace, and then to milepost 7.6, near Mullan, in Benewah, Kootenai, and Shoshone Counties, Idaho. The line traverses the U.S. Postal Service zip codes 83851, 83861, 83833, 83810, 83839, 83837, 83846, and 83846. The Wallace Branch no longer has stations because rail service has already been discontinued. The 7.9-mile section of right-of-way within the BHSS was addressed in the BHSS Record of Decision (EPA 1992) and is not part of the salvage proposal before the Board. Section 121(e)(1), of the Comprehensive Environmental Response, Compensation and Liability (CERCLA), 42 U.S.C. 9261(e)(1), relieves UP of the requirement to obtain Board approval to remove track within the BHSS if it is done in connection with remediation actions carried out in compliance with CERCLA. Pursuant to Section 121(e) of CERCLA, UP removed track within the BHSS in connection with remediation actions carried out in compliance with CERCLA. UP has not, by undertaking such remediation, or by any other action, abandoned any portion of the Wallace Branch including the portion within the BHSS.

To meet its obligations under NEPA, SEA completed an independent review of the material submitted by UP and on January 7, 2000 issued a Draft Supplemental EA for public review and comment. The Draft Supplemental EA addressed environmental information and evaluated (1) Whether the six environmental conditions previously imposed by the Interstate Commerce Commission (ICC) ² were met and (2) whether the environmental concerns regarding salvage activity raised during the course of the environmental review process had now been appropriately addressed and resolved. The document also contained SEA's preliminary recommendations for mitigating the potential environmental impacts from salvage activity that have been identified.

² The ICC Termination Act of 1995 (ICCTA), which was enacted on December 29, 1995, and took effect on January 1, 1996, abolished the ICC and established the Board to assume some regulatory functions involving rail transportation matters that the ICC had administered, including the functions involving the abandonment of rail service at issue here. The ICC's six environmental conditions required consultation and possible permitting and review by appropriate agencies with specialized expertise prior to any salvage activity on this line.

SEA received nine comments on the Draft Supplemental EA, including generally favorable comments urging that the Board grant UP final salvage authority submitted by EPA, the State of Idaho, the Coeur d'Alene Tribe, through whose reservation the line passes, and UP. The Final Supplemental EA presents the agency and public comments that SEA received on the Draft Supplemental EA and SEA's response to those comments. It summarizes the environmental review that has taken place in this case and recommends final environmental mitigation measures for the Board to impose if it decides to approve salvage of the line. The Final Supplemental EA fully adopts and incorporates the analysis and conclusions in the Draft Supplemental EA, subject to certain factual and technical changes made as a result of the comments, and a modified historic preservation condition.

In the Final Supplemental EA, SEA concludes that the material provided by UP was sufficient to satisfy five of the six environmental conditions imposed by the ICC to ensure that, prior to salvage of the line, the potential significance of environmental effects related to the proposed track salvage will have been properly evaluated.³ Furthermore, SEA concludes, based on the available information and the input of other agencies and government entities with specialized expertise, that if UP complies with the mitigation in the Engineering Evaluation/Cost Analysis and the Track Salvage Work Plan that were issued and approved by EPA, and the Biological Assessment prepared by UP and approved by the U.S. Fish and Wildlife Service, and if the additional mitigation SEA has recommended is imposed and implemented by UP, UP's proposal to salvage the Wallace Branch would not have significant adverse environmental impacts. Therefore, the preparation of an environmental impact statement is not warranted.

³ The only condition that has not yet been satisfied is the ICC's Environmental Condition No. 6, involving historic preservation. SEA recommends that the Board impose a modified historic preservation condition on any decision approving salvage to ensure completion of the historic review process.

The Board will consider the entire environmental record, the Draft Supplemental EA, the Final Supplemental EA, and all public comments before issuing a decision either granting or denying UP final authority to salvage the portion of the Wallace Branch outside of the BHSS. In that decision, if UP's proposal is approved, the Board will impose any environmental conditions it deems appropriate.

By the Board, Elaine K. Kaiser, Chief, Section of Environmental Analysis.
Vernon A. Williams,
Secretary.

[FR Doc. 00-9243 Filed 4-13-00; 8:45 am]

BILLING CODE 4915-00-P